DEPARTMENT OF JUSTICE

Antitrust Division

Notice Pursuant to the National Cooperative Research and Production Act of 1993—Hot Metal Gas Forming Joint Venture (“HMGF”)

Notice is hereby given that, on September 15, 2003, pursuant to section 6(a) of the National Cooperative Research and Production Act of 1993, 15 U.S.C. 4301 et seq. (“the Act”), Hot Metal Gas Forming Joint Venture (“HMGF”) has filed written notifications simultaneously with the Attorney General and the Federal Trade Commission disclosing changes in its membership status. The notifications were filed for the purpose of extending the Act's provisions limiting the recovery of antitrust plaintiffs to actual damages under specified circumstances. Specifically, Center for Automotive Research, Ann Arbor, MI has been added as a party to this venture. Also, Altarum Institute, Ann Arbor, MI has been dropped as a party to this venture.

No other changes have been made in either the membership or planned activity of the group research project. Membership in this group research project remains open, and Hot Metal Gas Forming Joint Venture (“HMGF”) intends to file additional written notification disclosing all changes in membership.

On December 21, 1998, Hot Metal Gas Forming Joint Venture (“HMGF”) filed its original notification pursuant to section 6(a) of the Act. The Department of Justice published a notice in the Federal Register pursuant to section 6(b) of the Act on February 18, 1999 (64 FR 8124).

The last notification was filed with the Department on July 19, 2002. A notice was published in the Federal Register pursuant to section 6(b) of the Act on August 13, 2002 (67 FR 52744).

Dorothy B. Fountain,
Deputy Director of Operations, Antitrust Division.

[FR Doc. 03-25875 Filed 10-10-03; 8:45 am]

BILLING CODE 4420-11-M